ENVIRONMENTAL PROTECTION AGENCY

[CERCLA-02-2024-2015; FRL-12435-01-R2]

Proposed CERCLA Cost Recovery Settlement for the Pure Earth Recycling Superfund Site, Vineland, Cumberland County, New York

AGENCY: Environmental Protection Agency.

ACTION: Notice; request for public comment.

SUMMARY: In accordance with the Comprehensive Environmental Response, Compensation, and Liability Act of 1980 (“CERCLA”), notice is hereby given by the U.S. Environmental Protection Agency (“EPA”), Region 2, of a proposed cost recovery settlement agreement (“Settlement”) pursuant to CERCLA with 231 settling parties (“Respondents”) relating to the Pure Earth Recycling Superfund Site (“Site”), located in Vineland, Cumberland County, New Jersey.

DATES: Comments must be submitted on or before March 31, 2025.

ADDRESSES: Requests for copies of the proposed Settlement and submission of comments must be via electronic mail. Comments should reference the Pure Earth Recycling Superfund Site, Vineland, Cumberland County, New Jersey, Index No. CERCLA-02-2024-2015. For those unable to communicate via electronic mail, please contact the EPA employee identified below.

FOR FURTHER INFORMATION CONTACT: Jocelyn Scott, Attorney, Office of Regional Counsel, New York/Caribbean Superfund Branch, U.S. Environmental Protection Agency, 290 Broadway, 17th Floor, New York, NY 10007-1866. Email: scott.jocelyn@epa.gov. Telephone: 212-637-3179.

SUPPLEMENTARY INFORMATION: Under the proposed Settlement, issued pursuant to CERCLA Section 122(g), 42 U.S.C. 9622(g), Respondents will pay to the United States a total of $1,427,692.56 for past costs incurred by EPA at the Site. The Settlement includes a covenant by EPA not to sue or to take administrative action against the Respondents pursuant to sections 106 and 107 of CERCLA, 42 U.S.C. 9606 and 9607, with regard to the Site. For thirty (30) days following the date of publication of this notice, EPA will receive written comments relating to the proposed Settlement. EPA will consider all comments received and may modify or withdraw its consent to the proposed Settlement if comments received disclose facts or considerations that indicate that the proposed Settlement is inappropriate, improper, or inadequate. EPA's response to any comments received will be available for public inspection at EPA Region 2, 290 Broadway, New York, New York 10007-1866.

Pasquale Evangelista,
Director, Superfund & Emergency Management Division, U.S. Environmental Protection Agency, Region 2.

[FR Doc. 2025-03208 Filed 2-27-25; 8:45 am]

BILLING CODE 6560-50-P